DEPARTMENT OF JUSTICE

Antitrust Division

Notice Pursuant to the National Cooperative Research and Production Act of 1993—America's Datahub Consortium

Notice is hereby given that, on September 22, 2025, pursuant to section 6(a) of the National Cooperative Research and Production Act of 1993, 15 U.S.C. 4301 et seq. (“the Act”), America's DataHub Consortium (“ADC”) has filed written notifications simultaneously with the Attorney General and the Federal Trade Commission disclosing changes in its membership. The notifications were filed for the purpose of extending the Act's provisions limiting the recovery of antitrust plaintiffs to actual damages under specified circumstances.

Specifically, Abril Ph.D., Julie C, Bayfield, CO; Arch Systems LLC, Baltimore, MD; Bao Systems LLC, Washington, DC; Blue Fusion Technologies, LLC, Anna Maria, FL; Brillient Corporation, Reston, VA; BRK Town Ventures LLC, Fuquay Varina, NC; Cormac Corporation, Leesburg, VA; Daax Technologies Inc., Santa Clara, CA; Defense Operations & Execution Solutions INC, W Melbourne, FL; Imagine Believe Realize LLC, Rockledge, FL; Incept Data Solutions INC, Sterling, VA; Modus Operandi, Inc., Melbourne, FL; National Association of State Workforce Agencies, Washington, DC; Netimpact Strategies INC, Herndon, VA; Oneida Technology Services LLC, Milwaukee, WI; Optisources LLC, McLean, VA; Sgsd Partners LLC, Washington, DC; SRR International, INC, Riviera Beach, FL; Synergistic INC, New Baltimore, MI; and The Association for the Advancement of Business AI, Clifton, VA, have been added as parties to this venture.

No other changes have been made in either the membership or planned activity of the group research project. Membership in this group research project remains open, and ADC intends to file additional written notifications disclosing all changes in membership.

On November 11, 2021, ADC filed its original notification pursuant to section 6(a) of the Act. The Department of Justice published a notice in the Federal Register pursuant to section 6(b) of the Act on December 22, 2021 (86 FR 72628).

The last notification was filed with the Department on June 16, 2025. A notice was published in the Federal Register pursuant to section 6(b) of the Act on July 25, 2025 (90 FR 35312).

Suzanne Morris,
Deputy Director Civil Enforcement Operations, Antitrust Division.

[FR Doc. 2026-00939 Filed 1-16-26; 8:45 am]

BILLING CODE P